ENVIRONMENTAL PROTECTION AGENCY

[ER-FRL-6691-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in the Federal Register dated April 6, 2007 (92 FR 17156).

Draft EISs

EIS No. 20070185, ERP No. D-FHW-E40813-GA, Northwest I-75/I-575 Corridor Project, Transportation Improvements, Funding, Cobb and Cherokee Counties, GA.

Summary: EPA expressed environmental concerns about the consideration of alternatives, lack of analysis for mobile source air toxics, noise impacts, significant impacts to low-income and minority communities and water quality impacts. EPA recommends several mitigation and enhancement measures that could be implemented during and after construction to assist in minimizing impacts to the environment. Rating EC2.

EIS No. 20070212, ERP No. D-TVA-E39069-AL, Bear Creek Dam Leakage Resolution Project, To Modify Dam and Maintain Summer Pool Level of 576 Feet, Bear Creek Dam, Franklin County, AL.

Summary: EPA expressed environmental concerns about wetlands losses through changes in reservoir pool and downstream flows. EPA recommends monitoring and suggest that a Bear Creek Watershed Team be formed to help control reservoir water quality. Rating EC2.

EIS No. 20070221, ERP No. D-AFS-J65483-MT, Butte Resource Management Plan, Implementation, Beaverhead, Broadwater, Deerlodge, Gallatin, Jefferson, Lewis and Clark, Silver Bow and Park Counties, MT.

Summary: EPA expressed environmental concerns about impacts to ecosystem processes, water and habitat quality. EPA requested additional information to fully assess and mitigate all potential impacts of management. Rating EC2.

EIS No. 20070270, ERP No. D-NRC-D09802-MD, License Renewal of the National Bureau of Standards Reactor (NBSR), Renew the Operating License for an Additional 20 Years, National Institute of Standards and Technology (NIST), NUREG-1873, Montgomery County, MD.

Summary: EPA does not object to the proposed action. Rating LO.

EIS No. 20070298, ERP No. D-AFS-J65487-UT, Millville Peak/Logan Peak Road Relocation Project, Provide a Safe, Reliable, Ground Access Route, Logan Ranger District, Wasatch-Cache National Forest, Cache County, UT.

Summary: EPA expressed environmental concerns about the loss of acreage and associated roadless values associated with constructing five miles of new road. EPA requested additional mitigation measures to address the safety issue posed by the high voltage power cable that is becoming increasingly exposed and additional documentation of “irreparable resource damage” to the existing roads as the basis for allowing road construction in roadless areas. Rating EC2.

EIS No. 20070305, ERP No. D-BPA-J08028-MT, Libby (FEC) to Troy Section of BPA's Libby to Bonner Ferry 115-kilovolt Transmission Line Project, Rebuilding Transmission Line between Libby and Troy, Lincoln County, MT.

Summary: EPA expressed environmental concerns about impacts to water quality, wetlands and the avian community. EPA requested additional information to fully assess and mitigate all potential impacts of the proposed actions. Rating EC2.

EIS No. 20070308, ERP No. D-AFS-J65489-MT, Marten Creek Project, Proposed Timber Harvest, Prescribed Fire Burning, Watershed Restoration, and Associated Activities, Cabinet Ranger District, Kootenai National Forest, Sanders County, MT.

Summary: EPA expressed environmental concerns about impacts to water quality and habitat quality, and recommended additional information to assess and mitigate impacts of the proposed management actions. Rating EC2.

EIS No. 20070267, ERP No. DA-COE-E39051-FL, Lake Okeechobee Regulation Schedule Study, New Updated Information, Evaluation of Three New Alternatives on Operational Changes to the Current Water Control Plan, Lake Okeechobee and the Everglades Agricultural Area, Lake Okeechobee, Glades, Okeechobee Hendry, Palm Beach and Martin Counties, FL.

Summary: EPA continues to have environmental concerns about water flow impacts on the lower river and estuaries from lake flow releases. Rating EC1.

EIS No. 20070276, ERP No. DS-COE-E32061-MS, Pascagoula Harbor Navigation Channel Project, To Construct Congressionally Authorized Widening and Deepening Improvements, to update the FEIS-1985, Jackson County, MS.

Summary: EPA expressed environmental concerns about the potential impacts and requested additional information. EPA's comments included a request that every effort be made to minimize impacts to submerged aquatic vegetation and that the Corps explore opportunities for beneficial uses of the dredged material. EPA also requested that a detailed sediment evaluation and testing report be submitted to ensure that the disposal material meets the Ocean Dumping Criteria under the Marine Research and Sanctuaries Protection Act's ocean dumping criteria. Rating EC2.

Final EISs

EIS No. 20070263, ERP No. F-AFS-J65376-SD, Mitchell Project Area, To Implement Multiple Resource Management Actions, Mystic Ranger District, Black Hills National Forest, Pennington County, SD.

Summary: EPA's previous concerns have been resolved; therefore, EPA does not object to the proposed action.

EIS No. 20070309, ERP No. F-FRC-L05239-00, Spokane River and Post Falls Hydroelectric Project, Applications for two New Licenses for Existing 14.75 (mw) Post Falls No. 12606 and 122.9 (mw) Spokane River No. 2545, Kootenai and Benewah Counties, ID and Spokane, Lincoln and Stevens Counties, WA.

Summary: EPA continues to have environmental concerns about the project's potential impacts to water quality. EPA recommended that the Record Of Decision for the project include updated information about Clean Water Act Section 401 water quality certification process, as well as assurances that the project plans would be adjusted to meet water quality standards in Idaho and Washington during project implementation.

EIS No. 20070319, ERP No. F-USN-E11061-FL, Boca Chica Field, Restoration of Clear Zones and Stormwater Drainage Systems, Implementation, Naval Air Station (NAS) Key West, Monroe County, FL.

Summary: EPA's previous concerns have been resolved; therefore, EPA does not object to the proposed action.

EIS No. 20070320, ERP No. F-WPA-K05063-AZ, San Luis Rio Colorado Project, Proposes to Construct a 26-Mile Long 230 Kilovolt Double-Circuit Transmission Line from the International Border with Mexico to Western and Arizona Public Service Substations near Yuma County, AZ.

Summary: No formal comment letter was sent to the preparing agency.

EIS No. 20070321, ERP No. F-NOA-E91018-00, Amendment 27 to the Reef Fish Fishery Management Plan and Amendment 14 to the Shrimp Fishery Management Plan, To Address Stock Rebuilding and Overfishing of Red Snapper, Gulf of Mexico.

Summary: EPA has no objection to the proposed action.

Dated: September 11, 2007.
Ken Mittelholtz,
Environmental Protection Specialist, Office of Federal Activities.

[FR Doc. E7-18182 Filed 9-13-07; 8:45 am]

BILLING CODE 6560-50-P